DEPARTMENT OF HEALTH AND HUMAN SERVICES

Substance Abuse and Mental Health Services Administration

Notice of a Meeting

Pursuant to Public Law 92-463, notice is hereby given of a meeting of the Substance Abuse and Mental Health Services Administration (SAMHSA) National Advisory Council on June 30 and July 1, 2004.

The SAMHSA National Advisory Council meeting will be open to the public. The meeting will include the SAMHSA Administrator's Report, and discussions on Mental Health Systems Transformation, the Co-occurring Report, SAMHSA's Strategic Prevention Framework Initiative, suicide prevention, and SAMHSA's Access to Recovery Initiative. The meeting will also include a discussion of the Agency's current legislative highlights, and an update on the Interagency Coordinating Committee on the Prevention of Underage Drinking.

Attendance by the public will be limited to space available. Public comments are welcome. Please communicate with the individual listed as contact below to make arrangements to comment or to request special accommodations for persons with disabilities.

Substantive program information, a summary of the meeting, and a roster of Council members may be obtained either by accessing the SAMHSA Council Web site, http://www.samhsa.gov/council/council or by communicating with the contact whose name and telephone number is listed below. The transcript for the meeting will also be available on the SAMHSA Council Web site.

Committee Name: SAMHSA National Advisory Council.

Date/Time: Wednesday, June 30, 2004, 9 a.m. to 4:45 p.m. (Open), Thursday, July 1, 2004, 9 a.m. to 12:15 p.m. (Open).

Place: Hilton Washington Embassy Row Hotel, Ambassador Room, 2015 Massachusetts Avenue, NW., Washington, DC 20036.

Contact: Toian Vaughn, Executive Secretary, 5600 Fishers Lane, Parklawn Building, Room 12C-05, Rockville, MD 20857, Telephone: (301) 443-7016; FAX: (301) 443-1450 and E-mail: tvaughn@samhsa.gov.

Dated: June 14, 2004.
Toian Vaughn,
Committee Management Officer, SAMHSA.

[FR Doc. 04-13791 Filed 6-17-04; 8:45 am]

BILLING CODE 4162-20-P